COMMISSION ON CIVIL RIGHTS

Agenda and Notice of Public Meeting of the District of Columbia, Maryland and Virginia Advisory Committees

Notice is hereby given, pursuant to the provisions of the rules and regulations of the U.S. Commission on Civil Rights, that subcommittees of the District of Columbia, Maryland and Virginia Advisory Committees to the Commission will convene at 12:00 p.m. and adjourn at 2:30 p.m. on March 27, 2002, at the U. S. Commission on Civil Rights, 624 9th Street NW, 5th Floor Conference Room (540), Washington, DC 20425. The subcommittees, also known as the Inter-SAC Committee, will finalize necessary details in preparation for the community forum on civil rights concerns of Arab and Muslim Americans in the aftermath of 9/11, to be held late April or early May 2002.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, March 1, 2002.
Ivy L. Davis,
Chief, Regional Programs Coordination Unit.

[FR Doc. 02-5392 Filed 3-6-02; 8:45 am]

BILLING CODE 6335-01-P